POSTAL SERVICE

New Hazardous Materials Packaging Provisions

AGENCY: Postal Service™.

ACTION: Notice.

SUMMARY: The Postal Service will revise Publication 52, Hazardous, Restricted, and Perishable Mail (Publication 52), to provide revised standards for its hazardous materials Small Quantity Provision and to add a new Excepted Quantity Provision. Publication 52 was developed to provide expanded requirements for the mailing of hazardous, restricted, and perishable materials.

DATES: Effective date: August 4, 2016.

FOR FURTHER INFORMATION CONTACT: Kevin Gunther (202) 268-7208.

SUPPLEMENTARY INFORMATION:

Overview: U.S. Postal Service® Publication 52 provides mailing standards specific to hazardous, restricted and perishable items and materials. Pursuant to the Mailing Standards of the United States Postal Service, Domestic Mail Manual (DMM®) section 601.8.2, Publication 52 applies to the mailability of hazardous materials.

Revisions to Publication 52: The Postal Service is making these revisions in order to more closely align with the Department of Transportation (DOT), Pipeline and Hazardous Materials Safety Administration (PHMSA) January 14, 2009 changes to regulations for the transportation of specified hazardous materials shipped in small quantities.

PHMSA announced the adoption of their Excepted Quantity regulations on January 14, 2009, via Docket HM-215J. As part of this rulemaking, PHMSA maintained its then-current allowances for small quantities of Division 2.2, Class 3, Division 4.1, Division 4.2 (Packing Group II and III), Division 4.3 (Packing Group II and III), Division 5.1, Division 5.2, Division 6.1, Class 7, Class 8, and Class 9 materials transported by highway and rail. Also at this time, PHMSA adopted the United Nations (UN) and International Civil Aviation Organization (ICAO) Excepted Quantity regulations for transportation by aircraft or vessel. PHMSA stated it believed that aligning the existing Small Quantity regulations with the Excepted Quantity regulations for air and vessel transportation would enhance harmonization and increase safety. With this revision, PHMSA revised its Small Quantity regulations (49 CFR173.4) to apply to domestic highway and rail transportation only and added a new section 173.4a which matches international Excepted Quantity regulations for air and vessel transportation. Concurrent with these changes, PHMSA adopted the new “E” international marking, making it applicable to domestic transportation.

When using this marking, the “*” must be replaced by the primary hazard class or division number and the “**” must be replaced by the name of the shipper or consignee, if not shown elsewhere on the package.

To align the USPS Small Quantity Provision more closely with its DOT counterpart, the Postal Service will revise its current Small Quantity Provision, making the provision applicable only to surface mail products. As was previously the case, the USPS Small Quantity Provision will continue to be more restrictive than that applicable to commercial shippers and carriers. The Postal Service also clarifies this section to provide that Division 6.1 toxic substances in Packing Groups I and II are prohibited, and only Division 6.1 materials in Packing Group III are eligible to be mailed under the USPS Small Quantity Provision. Generally, Division 6.1, Packing Group I and II materials are listed as nonmailable in Publication 52, Appendix A.

In addition, the Postal Service adds a new Excepted Quantity Provision, intended to align with the DOT/PHMSA Excepted Quantity regulations published in 49 CFR 173.4a. The new Excepted Quantity Provision will apply to domestic USPS air products, but may be used with shipments placed in USPS surface transportation. Mailpieces entered under the USPS Excepted Quantity Provision must be marked with the DOT-approved “E” marking as described above and meet all quantity, packaging and marking requirements described in the revised section 337 and new Packaging Instruction 10B. Although the “E” excepted quantity marking is recognized for commercial international shipments, the USPS Excepted Quantity Provision is for domestic use only and is prohibited in international and APO/FPO/DPO mail.

The Postal Service will prohibit the shipment of materials in Hazard Classes 1, 2, 4, and 7 under the Excepted Quantity Provision.

The Postal Service will also add language to Publication 52, for both the Small Quantity and Excepted Quantity Provisions, to clarify that materials identified in Appendix A of Publication 52 as “prohibited” in USPS air and surface transportation are ineligible for mailing under these provisions, without regard to their hazard class, division, or packing group.

The specific revisions to Publication 52, Hazardous, Restricted, and Perishable Mail referenced in this notice will be published in Postal Bulletin 22447 on August 4, 2016, and can be viewed at http://about.usps.com/postal-bulletin. These revisions are expected to be incorporated into Publication 52 within the next few weeks. Publication 52 is provided in its entirety on Postal Explorer® at http://pe.usps.com/text/pub52/welcome.htm.

Stanley F. Mires,
Attorney, Federal Compliance.

[FR Doc. 2016-17203 Filed 7-20-16; 8:45 am]

BILLING CODE 7710-12-P